DEPARTMENT OF ENERGY

National Energy Technology Laboratory; Notice of Intent To Issue a Funding Opportunity Announcement

AGENCY: National Energy Technology Laboratory, Department of Energy.

ACTION: Notice of intent to issue funding opportunity announcement No. DE-PS26-04NT42089, entitled “Million Solar Roofs Initiative Small Grant Program for State And Local Partnerships.”

SUMMARY: The Department of Energy (DOE), pursuant to the DOE financial assistance rules, 10 CFR 600.8, is announcing its intention to solicit applications from State and local partnerships under the Million Solar Roofs (MSR) Program. DOE's Office of Energy Efficiency and Renewable Energy will consider proposals from interested State and local partnerships to help fund their MSR program development and implementation activities.

DATES: The announcement will be issued mid-February 2004.

ADDRESSES: A copy of the announcement will be accessible through the Department of Energy, Industry Interactive Procurement System (IIPS) Web site at: http://e-center.doe.gov/ by browsing opportunities by Program Office for those funding opportunity announcements issued by the National Energy Technology Laboratory. DOE will not issue hard copies of the announcement.

FOR FURTHER INFORMATION CONTACT: James McDermott, Contracting Officer, at 215-656-6976 or electronically at james.mcdermott@ee.doe.gov. Responses to questions will be posted on the DOE IIPS Web site.

SUPPLEMENTARY INFORMATION: The Department of Energy's MSR Initiative is an initiative to support State and local partnerships who agree to install solar energy systems on one million buildings in the United States (U.S.) by 2010. This effort includes two types of solar energy technology: (1) Solar electric (photovoltaic) systems that produce electricity from sunlight, and (2) solar thermal systems panels that produce heat for domestic hot water, for space heating or for heating swimming pools. The partnerships bring together business, government and community organizations at the regional level with a commitment to install a pre-determined number (at least 500) of solar energy systems.

A complete description of partnerships and their representative activities can be found on the MSR Web site at http://www.MillionSolarRoofs.org.

Applications under the announcement must further the work of State and local partnerships, including partners in the building industry, State and local governments, utilities, the solar energy industry, financial institutions and non-governmental organizations, to remove market barriers to solar energy use and to develop and strengthen local demand for solar energy products and applications.

There are two types of grants available: Phase 1—New Partnership grants, and Phase 2—Meeting the Commitment grants. Only one application may be submitted per partnership in one or the other of the categories, but not both. Partnerships that have been awarded prior MSR partnership grants in the past may not apply for a Phase 1—New Partnership grant. Newly formed or existing partnerships that have not received prior MSR grants may apply for a Phase 1—New Partnership grant. Any partnership with the prerequisites may apply for a Phase 2—Meeting the Commitment grant.

The project or activity must be conducted in a designated MSR State and local partnership area. There is no cost sharing requirement for these grants, although cost sharing will be one of the criteria considered. Subject to the availability of funds, multiple awards for a total of $1,500,000 (DOE funding) in Fiscal Year 2004 are anticipated as a result of this funding opportunity. The selected applicants will receive financial assistance under a grant. DOE will fund up to $50,000 per project. DOE anticipates funding approximately 30 to 40 grants in the amount of $10,000 to $50,000 each.

Funding opportunity announcement number DE-PS26-04NT42089 will include complete information on the program, including technical aspects, funding, application preparation instructions, application evaluation criteria, and other factors that will be considered when selecting applications for funding. No pre-application conference is planned. Issuance of the announcement is planned for mid-February 2004, with applications due 45 days after the announcement has been issued.

Issued in Pittsburgh, Pennsylvania, on February 5, 2004.
Dale A. Siciliano,
Director, Acquisition and Assistance Division.

[FR Doc. 04-3742 Filed 2-19-04; 8:45 am]

BILLING CODE 6450-01-P